NATIONAL CREDIT UNION ADMINISTRATION

Modernizing Data Collection for Regulatory Oversight of Credit Unions

AGENCY: National Credit Union Administration.

ACTION: Notice; Request for Information (RFI).

SUMMARY: The National Credit Union Administration (NCUA) is conducting a comprehensive review of two vehicles used to collect information for regulatory oversight of federally insured credit unions (FICUs)—the 5300 Call Report (Call Report) and Form 4501A Profile (Profile). The overarching goal is modernizing content to (i) strengthen on-site examination and off-site monitoring by NCUA and state supervisory authorities, (ii) facilitate richer comparisons of institution and industry trends by other parties, and (iii) minimize the burden on reporting FICUs. NCUA plans a diverse outreach to inform modernization efforts with both general and specific input from all interested stakeholders. This RFI represents the first step.

Specifically, this RFI announces NCUA's desire for assistance in identifying the interrelated considerations and challenges associated with improving the Call Report and Profile. Input with be gathered through an open public review-and-comment process featuring a range of possible forums (such as workshops, focus groups, online surveys, etc.). Target participants include credit unions, leagues, trades, regulators, industry-related persons, and academics.

DATES: Comments must be received by 5:00 p.m. Eastern time on August 1, 2016.

ADDRESSES: Comments may be submitted using one of the methods below (Please do not send comments via multiple methods.). Include “[Your name and company name (if any)]—Call Report/Profile Content Modernization” in all correspondence.

• Mail: Please direct written comments related to Call Report/Profile content modernization to Mark Vaughan, National Credit Union Administration, Office of Examination and Insurance, 1775 Duke Street, Alexandria, VA 22314.

• Email: Address to CallReportMod@ncua.gov. Any of the following formats is acceptable: HTML, ASCII, Word, RTF, or PDF.

NCUA will post all material received by the deadline on the agency Web site (www.ncua.gov) without alteration or redaction, so commenters should not include information they do not wish public (e.g., personal or confidential business information). SPAM or marketing materials will be discarded without publication.

FOR FURTHER INFORMATION CONTACT: Mark Vaughan, National Credit Union Administration, Office of Examination and Insurance, 1775 Duke Street, Alexandria, VA 22314, telephone (703) 518-6622, email mvaughan@ncua.gov. Media inquiries should be directed to the NCUA Office of Public and Congressional Affairs at (703) 518-6671 or pacamail@ncua.gov.

SUPPLEMENTARY INFORMATION: NCUA uses the Call Report and Profile to collect financial and non-financial information from federally insured credit unions (FICUs). The resulting data are integral to risk supervision at the institution and industry levels, which is central to safeguarding the integrity of the National Credit Union Share Insurance Fund (NCUSIF).

The credit-union industry is dynamic, with FICUs growing larger and more complex every year. To keep pace, NCUA has modernized a variety of regulations, such as those governing member business loans and risk-based capital. The agency is also studying extension of the examination cycle, which would require compensating enhancements in off-site monitoring. In such an environment, NCUA must ensure its data-collection vehicles evolve with industry practices, prudential regulations, and examination/supervision procedures so: (i) All material FICU risk exposures are captured; (ii) data offering little insight into these exposures are no longer solicited; (iii) the reporting burden on supervised institutions—particularly small or non-complex credit unions—is minimized.

This RFI represents an initial NCUA step to collaborate with the public to modernize its systems for collecting, storing, and analyzing regulatory data. NCUA will use information furnished by individuals and organizations to enhance data utility, improve user experiences, and reduce regulatory burden without compromising the agency's ability to safeguard the NCUSIF. In addition to this step, the agency plans to seek clearance from the Office of Management and Budget to form workgroups to help improve vehicles for storing and analyzing data.

NCUA invites credit unions, leagues, trade organizations, financial-data aggregators, academia, insurers, other regulators, and other interested parties to respond.

Request for Comment

NCUA is providing questions about major aspects of the Call Report and Profile to target issues the public would like addressed by the modernization effort. These questions are not intended to limit discussion. Indeed, responders may explore any issue relevant to Call Report and Profile content. Information received will not be used for statistical purposes.

Responses containing references to studies, research, or data not widely available to the public should include copies of referenced materials. A description of the commenter's organization and its interest in the Call Report and Profile will help NCUA use the input provided.

Call Report/Profile Content Questions

1. What specific areas of the Call Report/Profile forms do you find challenging to complete? Please describe the nature of those challenges.

2. What sections/schedules/items on the Call Report/Profile could be made optional for small or non-complex credit unions without complicating assessments of risk?

3. What specific items would you like to see added to the Call Report/Profile to enhance analysis of local, regional and national performance trends or improve comparisons of individual credit unions with peer institutions?

4. Are current Call Report account categories (database fields) reasonably aligned with your internal accounting? If not, what changes would improve the alignment?

5. Are the Call Report and Profile instructions adequate? If not, what improvements (overall and peculiar to specific items/schedules) would improve clarity and reduce reporting burden?

6. Could re-organization of the Call Report or Profile reduce reporting burden? If so, please describe the needed changes. Does the Call Report contain elements that should be moved to the Profile? If so, please detail these elements. Does the Profile contain element that should be moved to the Call Report? If so, please detail these elements.

7. Do you have any concerns or ideas about NCUA schedules/forms for collecting financial and non-financial information not addressed above?

Dated: June 1, 2016.
Gerard S. Poliquin,
Secretary of the Board.

[FR Doc. 2016-13332 Filed 6-6-16; 8:45 am]

BILLING CODE 7535-01-P